ENVIRONMENTAL PROTECTION AGENCY

[EPA-HQ-OPP-2013-0121; FRL-9381-9]

Registration Review; Pesticide Dockets Opened for Review and Comment and Other Docket Acts

AGENCY: Environmental Protection Agency (EPA).

ACTION: Notice.

SUMMARY: With this document, EPA is opening the public comment period for several registration reviews. Registration review is EPA's periodic review of pesticide registrations to ensure that each pesticide continues to satisfy the statutory standard for registration, that is, the pesticide can perform its intended function without unreasonable adverse effects on human health or the environment. Registration review dockets contain information that will assist the public in understanding the types of information and issues that the Agency may consider during the course of registration reviews. Through this program, EPA is ensuring that each pesticide's registration is based on current scientific and other knowledge, including its effects on human health and the environment. This document also announces the Agency's intent not to open registration review dockets for iodomethane or ethametsulfuron-methyl. Iodomethane and ethametsulfuron-methyl are undergoing phase-outs of all U.S. pesticide registrations. The cancellations of the iodomethane end use registrations became effective on December 31, 2012, and the cancellation of the sole technical product registration will become effective on December 1, 2015. The cancellations of all ethametsulfuron-methyl product registrations became effective on February 20, 2013. Therefore, iodomethane and ethametsulfuron-methyl are not scheduled for review under the registration review program.

This document also announces the registration review case closures for the pesticides alkyl amine hydrochloride (case #3051) and halofenozide (case #7425), and the availability of their respective Case Closure Documents. The cancellation of all alkyl amine hydrochloride registrations became effective on October 17, 2012. The cancellation of all U.S. halofenozide registrations became effective December 21, 2012. These case closure are being announced herein with no comment period.

DATES: Comments must be received on or before May 28, 2013.

ADDRESSES: Submit your comments identified by the docket identification (ID) number for the specific pesticide of interest provided in the table in Unit III.A., by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For pesticide specific information contact: The Chemical Review Manager identified in the table in Unit III.A. for the pesticide of interest.

For general information contact: Jane Robbins, Pesticide Re-evaluation Division (7508P), Office of Pesticide Programs, Environmental Protection Agency, 1200 Pennsylvania Ave. NW., Washington, DC 20460-0001; telephone number: (703) 308-0048; fax number: (703) 308-8090; email address: robbins.jane@epa.gov.

SUPPLEMENTARY INFORMATION:

I. General Information

A. Does this action apply to me?

This action is directed to the public in general, and may be of interest to a wide range of stakeholders including environmental, human health, farmworker, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. Authority

EPA is initiating its reviews of the pesticides identified in this document pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5). When used in accordance with widespread and commonly recognized practice, the pesticide product must perform its intended function without unreasonable adverse effects on the environment; that is, without any unreasonable risk to man or the environment, or a human dietary risk from residues that result from the use of a pesticide in or on food.

III. Registration Reviews

A. What action is the agency taking?

As directed by FIFRA section 3(g), EPA is reviewing the pesticide registrations identified in the table in this unit to assure that they continue to satisfy the FIFRA standard for registration—that is, they can still be used without unreasonable adverse effects on human health or the environment. A pesticide's registration review begins when the Agency establishes a docket for the pesticide's registration review case, and opens the docket for public review and comment. At present, EPA is opening registration review dockets for the cases identified in the following table.

Table—Registration Review Dockets Opening
Registration review case name and No. | Docket ID No. | Chemical review manager telephone No., email address
Alkylbenzene sulfonates (ABS) (Case #4006) | EPA-HQ-OPP-2013-0097 | Wanda Henson, 703-308-6345, henson.wanda@epa.gov.
Bacillus sphaericus (Case #6052) | EPA-HQ-OPP-2013-0116 | Shanaz Bacchus, 703-308-8097, bacchus.shanaz@epa.gov.
Bromoxynil and esters (Case #2070) | EPA-HQ-OPP-2013-0896 | Margaret Hathaway, 703-305-5076, hathaway.margaret@epa.gov.
Dimethomorph (Case #7021) | EPA-HQ-OPP-2013-0045 | Monica Wait, 703-347-8019, wait.monica@epa.gov.
EPTC (Case #64) | EPA-HQ-OPP-2012-0720 | Carissa Cyran, 703-347-8781, cyran.carissa@epa.gov.
Fluopicolide (Case #7055) | EPA-HQ-OPP-2013-0037 | Rusty Wasem, 703-305-6979, wasem.russell@epa.gov.
Gibberellins (Case #4110) | EPA-HQ-OPP-2012-0939 | Menyon Adams, 703-347-8496, adams.menyon@epa.gov.
Iodosulfuron-methyl-sodium (Case #7253) | EPA-HQ-OPP-2012-0717 | Katherine St. Clair, 703-347-8778, st. clair.katherine@epa.gov.
Monosodium Methanearsonate (MSMA), also known as Methanearsonic acid salts (Case #2395) | EPA-HQ-OPP-2013-0107 | Garland Waleko, 703-308-8049, waleko.garland@epa.gov.
Niclosamide (Case #2455) and TFM/Lampricide (Case #3082) | EPA-HQ-OPP-2013-0137 | Kelly Ballard, 703-305-8126, ballard.kelly@epa.gov.
Octenol (Case #6033) | EPA-HQ-OPP-2012-0940 | Leonard Cole, 703-305-5412, cole.leonard@epa.gov.
1-Octadecanaminium,N,N-dimethyl-N-[3-(trihydroxysilyl)propyl],chloride (Case #5100) | EPA-HQ-OPP-2013-0096 | Elizabeth Hernandez, 703-347-0241, hernandez.elizabeth@epa.gov.
Prometon (Case #2545) | EPA-HQ-OPP-2013-0068 | Steven Snyderman 703-347-0249, snyderman.steven@epa.gov.
Prometryn (Case #467) | EPA-HQ-OPP-2013-0032 | Christina Scheltema, 703-308-2201, scheltema.christina@epa.gov.
Trichloromelamine (TCM) (Case #3144) | EPA-HQ-OPP-2013-0086 | Seiichi Murasaki, 703-347-0163, murasaki.seiichi@epa.gov.
Triclosan (Case #2340) | EPA-HQ-OPP-2012-0811 | Sandra O'Neill, 703-347-0141, oneill.sandra@epa.gov.
Trifloxystrobin (Case #7028) | EPA-HQ-OPP-2013-0074 | Moana Appleyard, 703-308-8175, appleyard.moana@epa.gov.
Trimethoxysilyl quats (Case #3148) | EPA-HQ-OPP-2013-0095 | Elizabeth Hernandez, 703-347-0241, hernandez.elizabeth@epa.gov.
T99 (1-Tetradecanaminium,N,N-dimethyl-N-[3-(trimethoxysilyl) propyl]-,chloride) (Case #5113) | EPA-HQ-OPP-2013-0085 | Elizabeth Hernandez, 703-347-0241, hernandez.elizabeth@epa.gov.

EPA is announcing that it will not be opening a docket for iodomethane. As per a November 14, 2012, Memorandum of Agreement between the Agency and the sole iodomethane registrant, Arysta LifeScience North America, LLC., iodomethane is undergoing a phase-out of all U.S. pesticide registrations. The cancellations of the end use registrations became effective on December 31, 2012. The cancellation of the sole technical product registration will become effective on December 1, 2015. The Federal Register notice announcing the Agency's receipt of the request for voluntary cancellation of all iodomethane product registrations was published for public comment on November 21, 2012 (77 FR 69840) (FRL-9370-2). The public comment period closed on December 21, 2012. One comment was received, and the comment was addressed in the cancellation order for iodomethane registrations that was published in the Federal Register on January 16, 2013 (78 FR 3417) (FRL-9375-9). Because the last iodomethane registration will be cancelled as of December 1, 2015, EPA will not schedule iodomethane for review under the registration review program.

EPA is also announcing that it will not be opening a docket for ethametsulfuron-methyl. The cancellation of all product registrations became effective on February 20, 2013. The Federal Register notice announcing the Agency's receipt of the request for voluntary cancellation of all ethametsulfuron-methly product registrations was published for public comment on December 5, 2012 (77 FR 72343) (FRL-9370-4). No comments were submitted to the Agency. The Federal Register notice announcing the Agency's cancellation of all ethametsulfuron-methyl product registrations was published on February 20, 2013 (78 FR 11879) (FRL-9377-2).

This notice also announces the registration review case closures for the pesticides alkyl amine hydrochloride (case #3051) and halofenozide (case #7425), and the availability of their respective Case Closure Documents. For alkyl amine chloride, the Notice of Receipt of a Request to Voluntarily Cancel Certain Pesticide Registrations was issued on February 29, 2012, and no public comments received during the 30-day comment period impacted the Agency's decision to grant the cancellation request. On October 17, 2012, the Agency published the Cancellation Order for all alkyl amine hydrochloride product registrations in the Federal Register (77 FR 63829) (FRL-9365-9). Due to the cancellation of all registered alkyl amine hydrochloride products in the United States, the Agency closed the registration review case for alkyl amine hydrochloride, pursuant to 40 CFR 155.42(c). In addition to the registration review Case Closure Document, the registration review docket (EPA-HQ-OPP-2007-1039) for alkyl amine hydrochloride, also includes other relevant documents related to the registration review of this case. This action is not open for public comment.

For halofenozide, the Notice of Receipt of Requests to Voluntarily Cancel Pesticide Registrations and Terminate All Uses was issued on September 26, 2012, for a 30-day public comment period (77 FR 59190) (FRL-9362-9); the Agency did not receive any comments. On December 21, 2012, the Agency issued the Cancellation Order for All Pesticide Registrations and Termination of All Uses for Halofenozide (77 FR 75631) (FRL-9373-6). All U.S. halofenozide pesticide registrations have been cancelled, effective December 21, 2012. Due to the cancellation of all halofenozide products in the United States, the Agency closed the registration review case for halofenozide, pursuant to 40 CFR 155.42(c). The Halofenozide Case Closure Document, is available in its registration review docket (EPA-HQ-OPP-2012-0231) along with other relevant documents related to the registration review of this case. This action is not open for public comment.

B. Docket Content

1. Review dockets. The registration review dockets contain information that the Agency may consider in the course of the registration review. The Agency may include information from its files including, but not limited to, the following information:

• An overview of the registration review case status.

• A list of current product registrations and registrants.

• Federal Register notices regarding any pending registration actions.

• Federal Register notices regarding current or pending tolerances.

• Risk assessments.

• Bibliographies concerning current registrations.

• Summaries of incident data.

• Any other pertinent data or information.

Each docket contains a document summarizing what the Agency currently knows about the pesticide case, and a preliminary work plan for anticipated data and assessment needs. Additional documents provide more detailed information. During this public comment period, the Agency is asking that interested persons identify any additional information they believe the Agency should consider during the registration reviews of these pesticides. The Agency identifies in each docket the areas where public comment is specifically requested, though comment in any area is welcome.

2. Other related information. More information on these cases, including the active ingredients for each case, may be located in the registration review schedule on the Agency's Web site at http://www.epa.gov/oppsrrd1/registration_review/schedule.htm. Information on the Agency's registration review program and its implementing regulation may be seen at http://www.epa.gov/oppsrrd1/registration_review.

3. Information submission requirements. Anyone may submit data or information in response to this document. To be considered during a pesticide's registration review, the submitted data or information must meet the following requirements:

• To ensure that EPA will consider data or information submitted, interested persons must submit the data or information during the comment period. The Agency may, at its discretion, consider data or information submitted at a later date.

• The data or information submitted must be presented in a legible and useable form. For example, an English translation must accompany any material that is not in English and a written transcript must accompany any information submitted as an audiographic or videographic record. Written material may be submitted in paper or electronic form.

• Submitters must clearly identify the source of any submitted data or information.

• Submitters may request the Agency to reconsider data or information that the Agency rejected in a previous review. However, submitters must explain why they believe the Agency should reconsider the data or information in the pesticide's registration review.

As provided in 40 CFR 155.58, the registration review docket for each pesticide case will remain publicly accessible through the duration of the registration review process; that is, until all actions required in the final decision on the registration review case have been completed.

List of Subjects

Environmental protection, Pesticides and pests.

Dated: March 19, 2013.
Richard P. Keigwin, Jr.,
Director, Pesticide Re-evaluation Division, Office of Pesticide Programs.

[FR Doc. 2013-07076 Filed 3-26-13; 8:45 am]

BILLING CODE 6560-50-P